DEPARTMENT OF AGRICULTURE

Natural Resources Conservation Service

[Docket ID NRCS-2024-0015]

Request for Public Input About Implementation of the Conservation Practices To Support Climate Change Mitigation and Adaptation

AGENCY: Natural Resources Conservation Service, USDA.

ACTION: Request for information.

SUMMARY: The Natural Resources Conservation Service (NRCS) requests public input for the improvement of the Conservation Practice Standards (CPS) to maximize climate mitigation and adaptation benefits, as supported by peer-reviewed scientific literature. Conservation practices providing climate benefits are delivered through existing conservation programs popular with producers, including the Environmental Quality Incentives Program (EQIP); Conservation Stewardship Program (CSP); Agricultural Conservation Easement Program (ACEP); Regional Conservation Partnership Program (RCPP); and Conservation Technical Assistance. These programs are funded through both the Inflation Reduction Act (IRA) and the Farm Bill.

DATES: We will consider comments that we receive by December 23, 2024. Comments received after that date will be considered to the extent possible.

ADDRESSES: We invite you to submit comments in response to this notice. You may submit your comments through one of the following methods below:

• Federal eRulemaking Portal: Go to http://www.regulations.gov and search for Docket ID NRCS-2024-0015. Follow the online instructions for submitting comments; or

• Mail or Hand Delivery: Ms. Sara del Fierro, Climate Mitigation Lead, NRCS Climate Office, Office of the Chief, NRCS, USDA, 1400 Independence Avenue, South Building, Room 4613, Washington, DC 20250. In your comment, please specify the Docket ID NRCS-2024-0015.

All comments received, including those received by mail, will be posted without change and made publicly available on http://www.regulations.gov.

FOR FURTHER INFORMATION CONTACT: Dana Ashford-Kornburger, National Climate Coordinator, at (202) 205-9434, or by email at dana.ashford@usda.gov. Individuals who require alternative means for communication may contact the USDA TARGET Center at (202) 720-2600 (voice and text telephone (TTY)) or dial 711 for Telecommunications Relay service (both voice and text telephone users can initiate this call from any telephone).

SUPPLEMENTARY INFORMATION:

Background

Voluntary, incentive-based approaches in agriculture play an important role in the United States' effort to address climate change. NRCS conservation programs support financial and technical assistance for producers to improve soil carbon; reduce nitrogen losses; or reduce, capture, avoid, or sequester carbon dioxide, methane, or nitrous oxide emissions associated with agricultural production for several NRCS programs.

The additional funding through the IRA provides NRCS with an unprecedented opportunity to implement conservation practices that provide climate mitigation benefits and quantify greenhouse gas emission reductions and carbon sequestration.

For EQIP and CSP conservation activities, IRA funding may be used for Climate-Smart Agriculture and Forestry Mitigation Activities and appropriate facilitating practices supporting their functions. While the IRA funding is focused on CPS that provide climate change mitigation benefits, NRCS also assists producers in addressing climate change impacts by providing climate change adaptation options and benefits.

As part of the implementation of the Climate Change Adaptation Plan,¹ NRCS is integrating climate information into current business procedures, assessments, and opportunities including CPS. All CPS are reviewed at least once every 5 years. This request provides the public an opportunity to provide input at the beginning of the review cycle for several CPS. NRCS will consider public comments, technical literature references, and input from subject matter experts and researchers. The CPS review process facilitates inclusion of new scientific findings, updated or new technology, and implementation experience. While NRCS welcomes comments on all CPS, as a priority NRCS is requesting input on the CPS listed in the two tables below, which are at the beginning of the review process. NRCS is also specifically requesting additional data and scientific literature related to the evaluation criteria and implementation that maximizes climate-related benefits.

¹ We published our Climate Change Adaptation Plan on our website in July 2022; it is available at https://www.nrcs.usda.gov/sites/default/files/2022-09/1_FPAC_NRCS_ClimateAdaptationPlan_2022.pdf.

Table 1—CPS for Review That Are Currently Considered Climate-Smart Agriculture and Forestry Mitigation Activities
Code | Name
313 | Waste Storage Facility.
314 | Brush Management.
315 | Herbaceous Weed Treatment.
336 | Soil Carbon Amendment.
338 | Prescribed Burning.
367 | Roofs and Covers.
383 | Fuel Break.
420 | Wildlife Habitat Planting.
554 | Drainage Water Management.
590 | Nutrient Management.
592 | Feed Management.
632 | Waste Separation Facility.
643 | Restoration of Rare or Declining Natural Communities.
666 | Forest Stand Improvement.

Table 2—CPS for Review That Are Not Currently Considered Climate-Smart Agriculture and Forestry Mitigation Activities
Code | Name
316 | Animal Mortality Facility.
360 | Waste Facility Closure.
605 | Denitrifying Bioreactor.

Mitigation

NRCS is seeking input on improvements to maximize climate benefits to CPS currently considered Climate-Smart Agriculture and Forestry Mitigation Activities ² as well as input regarding other conservation practices and innovative technologies or strategies that may also result in climate change mitigation benefits. NRCS also requests information to support the agency's estimation of the mitigation benefits associated with conservation practices.

² The Climate-Smart Agriculture and Forestry Mitigation Activities List is available at https://www.nrcs.usda.gov/sites/default/files/2023-10/NRCS-CSAF-Mitigation-Activities-List.pdf.

Adaptation

NRCS is also seeking input to improve CPS to assist producers in adapting to and building resilience to current and future climate changes, including seasonal temperature shifts and extremes; drought; increasing wildfire hazards; sea level rise; movement of invasive species; and other issues.

Information provided through this request will help NRCS identify and prioritize improvements to CPS or associated technical guidance. NRCS will identify immediate changes to be implemented for available funding for fiscal year 2026 and will continue to identify and adopt additional changes in the future.

List of Questions for Commenters

The list of questions below is not exhaustive and serves only to assist members of the public in formulating comments on some of the most important issues that NRCS is considering as it relates to CPS with consideration of climate change benefits. For responses, please consider including, if available: specific requirements, tools, procedures, etc. supported by scientific literature, handbooks, or other technical standards that support a specific implementation of CPS to maximize the mitigation benefits or provide benefits (for those not considered mitigation activities); and planning or design details that would further enhance the mitigation benefits of the conservation practice. The questions are not intended to restrict the feedback that members of the public may provide.

Climate Change Mitigation

1. What changes are needed to CPS to add flexibility or support implementation options to provide mitigation benefits? When evaluating conservation activities for inclusion on the Climate-Smart Mitigation Activity List, NRCS considers the following criteria:

a. Mitigation Benefit: An implementation of the activity is expected to result in a direct impact on either (or both) the carbon or nitrogen cycle, resulting in net greenhouse gas emission reduction or removal (that is, carbon sequestration) within a given scope (for example, geography, timeframe, or system) as supported by the scientific literature; and

b. Quantification of Estimated Benefit: For the activity under consideration, NRCS should have a science-based approach for quantitatively estimating annual mitigation benefits at a scale consistent with available NRCS activity data.

2. What additional technical guidance should NRCS provide or develop to support planning, designing, and implementing the CPS in a way to maximize mitigation benefits? Input may include specific implementation of CPS to maximize the mitigation benefits or provide benefits (for those not considered mitigation activities).

3. What models, methods, data, literature, and tools should NRCS consider as it develops and refines its estimation of the climate change mitigation benefits associated with CPS?

Climate Change Adaptation

1. What changes are needed to CPS to add flexibility or support implementation options in a way that considers potential climate change impacts and provides adaptation benefits, when possible?

2. What additional technical guidance should NRCS provide to support planning, designing, and implementing the CPS to ensure consideration of climate change impacts and maximize adaptation? Input may include specific implementation of CPS to maximize the adaptation benefits.

Innovation

1. What other innovative, economically viable ideas, technologies, or solutions are available to provide climate change mitigation or adaptation benefits that NRCS should consider for development of a new CPS?

Maximizing the Value of Public Feedback

NRCS plans to use the answers provided by the public to inform its approach to improve CPS. NRCS encourages public comment on these questions and requests any other information, scientific literature, or data that commenters believe are relevant to this request. NRCS is particularly interested in feedback that identifies specific CPS and includes scientific literature citations, data, guidance, benefit estimation methods, procedures or processes, and actionable information, data, or viable alternatives that would assist in implementing programmatic goals and requirements. You may contact us by sending an email to: SM.FPAC.NRCS.CLIMATE@usda.gov, if you have questions or concerns. Please specify the Docket ID: NRCS-2024-0015 in the subject line.

Review of Public Feedback

NRCS will use the public comments to inform review of our CPS and associated technical documents.

This document is issued solely for informational purposes and program planning purposes. Public comments provided in response to this document will not bind NRCS to any further actions, including publication of any formal response or agreement to initiate a recommended change. NRCS will consider the feedback in the public comments and make changes or consider improvements at our sole discretion.

Finally, comments submitted in response to this document will not be considered as petitions for rulemaking submitted as specified in the Administrative Procedure Act (5 U.S.C. 553(e)).

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible agency or the USDA TARGET Center at (202) 720-2600 (voice and text telephone (TTY)) or dial 711 for Telecommunications Relay Service (both voice and text telephone users can initiate this call from any phone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) Fax: (202) 690-7442; or (3) email: program.intake@usda.gov.

USDA is an equal opportunity provider, employer, and lender.

Louis Aspey,
Associate Chief, Natural Resources Conservation Service.

[FR Doc. 2024-26051 Filed 11-7-24; 8:45 am]

BILLING CODE 3410-16-P